NATIONAL FOUNDATION ON THE ARTS AND THE HUMANITIES

National Endowment for the Arts; Arts Advisory Panel

Pursuant to Section 10(a)(2) of the Federal Advisory Committee Act (Pub. L. 92-463), as amended, notice is hereby given that eleven meetings of the Arts Advisory Panel to the National Council on the Arts will be held at the Nancy Hanks Center, 1100 Pennsylvania Avenue NW., Washington, DC, 20506 as follows (ending times are approximate):

Media Arts (application review): January 10-12, 2012 in Room 627. This meeting, from 9 a.m. to 6 p.m. on January 10th and 11th and from 9 a.m. to 5 p.m. on January 12th, will be closed.

Folk and Traditional Arts (nomination review): January 10-13, 2012 in Room 716. This meeting, from 9 a.m. to 5:30 p.m. on January 10th-12th and from 9 a.m. to 1 p.m. on January 13th, will be closed.

State and Regional (state partnership agreements review): January 18-19, 2012 in Room 716. This meeting, from 10 a.m. to 5 p.m. on January 18th and from 9 a.m. to 3:30 p.m. on January 19th, will be open.

Design (application review): January 19, 2012 by teleconference. This meeting, from 1 p.m. to 5 p.m. EST, will be closed.

State and Regional/Folk and Traditional Arts (state partnership agreements/folk arts projects review): January 19-20, 2012 in Room 714. This meeting, from 3 p.m. to 5:30 p.m. on January 19th and from 9 a.m. to 5:30 p.m. on January 20th, will be open.

Innovation (application review): January 20, 2012 by teleconference. This meeting, from 1 p.m. to 2 p.m. EST, will be closed.

State and Regional (regional partnership agreements review): January 25, 2012, by teleconference. This meeting, from 1 p.m. to 2:05 p.m. EST, will be open.

State and Regional (regional partnership agreements review): January 25, 2012, by teleconference. This meeting, from 3 p.m. to 4:05 p.m. EST, will be open.

State and Regional (national services partnership agreements review): January 30, 2012, by teleconference. This meeting, from 4 p.m. to 5 p.m. EST, will be open.

Accessibility (application review): January 24, 2012 by teleconference. This meeting, from 3 p.m. to 4:30 p.m. EST, will be closed.

Research (application review): January 24-26, 2012 in Room 627. This meeting, from 9 a.m. to 5:30 p.m. on January 24th and 25th, and from 9 a.m. to 12 p.m. on January 26th, will be closed.

The closed portions of meetings are for the purpose of Panel review, discussion, evaluation, and recommendations on financial assistance under the National Foundation on the Arts and the Humanities Act of 1965, as amended, including information given in confidence to the agency. In accordance with the determination of the Chairman of February 15, 2011, these sessions will be closed to the public pursuant to subsection (c)(6) of section 552b of Title 5, United States Code.

Any person may observe meetings, or portions thereof, of advisory panels that are open to the public, and if time allows, may be permitted to participate in the panel's discussions at the discretion of the panel chairman. If you need any accommodations due to a disability, please contact the Office of Accessibility, National Endowment for the Arts, 1100 Pennsylvania Avenue NW., Washington, DC 20506, (202) 682-5532, TDY-TDD (202) 682-5496, at least seven (7) days prior to the meeting.

Further information with reference to these meetings can be obtained from Ms. Kathy Plowitz-Worden, Office of Guidelines & Panel Operations, National Endowment for the Arts, Washington, DC, 20506, or call (202) 682-5691.

Dated: December 13, 2011.
Kathy Plowitz-Worden,
Panel Coordinator, Panel Operations, National Endowment for the Arts.

[FR Doc. 2011-32302 Filed 12-15-11; 8:45 am]

BILLING CODE 7537-01-P